DEPARTMENT OF COMMERCE

National Oceanic and Atmospheric Administration

Notice of Availability of a Programmatic Environmental Assessment and Finding of No Significant Impact for the National Oceanic and Atmospheric Administration National Data Buoy Center

AGENCY: National Weather Service (NWS), National Oceanic and Atmospheric Administration (NOAA), Department of Commerce (DOC).

ACTION: Notice of availability.

DATES: The PEA and Finding of No Significant Impact are available for public inspection for 30 days after posting.

ADDRESSES: The Final PEA can be accessed at: http://www.ndbc.noaa.gov/pea/ndbc_final_pea_20180104.pdf.

The Finding of No Significant Impact is available for public inspection for 30 days after posting. It can be found at: http://www.ndbc.noaa.gov/pea/ndbc_fonsi_signed_20180102.pdf.

FOR FURTHER INFORMATION CONTACT: Joe Swaykos, National Data Buoy Center, Bldg. 3205, Stennis Space Center, MS 39529; phone (228) 688-4766; fax (228) 688-1364; email joe.swaykos@noaa.gov.

SUPPLEMENTARY INFORMATION: The National Oceanic and Atmospheric Administration (NOAA) National Data Buoy Center (NDBC), a part of the National Weather Service (NWS), designs, develops, operates, and maintains a network of moored buoys and coastal stations throughout the world's oceans, seas, and lakes for the purpose of civil earth marine observations. NDBC has prepared a Programmatic Environmental Assessment (PEA) to analyze the continued operational activities of its network of moored buoys and coastal stations. The NDBC PEA has been created in accordance with the National Environmental Policy Act of 1969.

The expected outcome from a Programmatic Environmental Assessment is either (a) finding of no significant impact; (b) identification of the need for an environmental impact statement; or (c) the proposed action is covered by a categorical exclusion established by the parent agency. In the case of the NDBC PEA a finding of no significant impact was made.

Dated: August 3, 2018.
Joseph A. Pica,
Director, Office of Observation, National Weather Service, National Oceanic and Atmospheric Administration.

[FR Doc. 2018-17038 Filed 8-8-18; 8:45 am]

BILLING CODE 3510-KE-P